CORPORATION FOR NATIONAL AND COMMUNITY SERVICE

Notice of funding opportunity for Grants To Support the Martin Luther King, Jr. Service Day Initiative

AGENCY: Corporation for National and Community Service.

ACTION: Notice of funding opportunity.

SUMMARY: Subject to the availability of appropriations, the Corporation for National and Community Service (hereinafter the “Corporation”) intends to award between $400,000 and $600,000 in grant funds to pay for the federal share of the cost of planning and carrying out service opportunities in conjunction with the federal legal holiday honoring the birthday of Martin Luther King, Jr. on January 20, 2003. The Corporation invites applications for these grants.

The purpose of the grants is to mobilize more Americans to observe the Martin Luther King, Jr. federal holiday as a day of service in communities and to bring people together around the common focus of service to others. To achieve this, depending upon appropriations provided by the Congress for the Corporation, and based upon previous allocations of funding for this activity, we will disburse between $400,000 and $600,000 in grant funds to support approved service opportunities. Eligible organizations may apply for a grant to support national service and community volunteering projects. Grant awards may range from $2,500 to $7,500. Proposals must be cost effective, based on the number of people serving and being served.

DATES: Applications must arrive at the appropriate Corporation offices or via the Internet-based electronic grants system described below no later than 5:00 p.m. Eastern Daylight Time on July 31, 2002.

ADDRESSES: This year, you may submit your application in one of three ways: (1) By mailing a paper application; (2) by mailing your application on diskette; or (3) by using the Corporation's new Internet-based application system. That system is expected to be available after June 12. We would like to encourage applicants to use this new electronic way of applying for a grant. Check the Corporation's web site after June 12— www.mlkday.org—for complete information. If you intend to submit an electronic application, please check the website in a timely fashion, so that if you experience difficulty with the electronic submission, you may still submit a paper application. Paper applications may be obtained from the Corporation state office in your state unless otherwise noted or from the website at www.mlkday.org. See SUPPLEMENTARY INFORMATION section for Corporation state office addresses. Paper applications must be returned to the Corporation state office in your state unless otherwise noted. In lieu of a paper application, you may submit the application on a 3.5” diskette in a text format only. Submitting your application on diskette will facilitate faster processing as well as reduce paper. Diskettes must be clearly marked with the program name and contact information. Application form SF 424 must be submitted along with the diskette. Address the paper application or diskette to: Martin Luther King, Jr. Day of Service, Corporation for National and Community Service (Appropriate State Address).

FOR FURTHER INFORMATION CONTACT: For further information, contact the person listed for the Corporation office in your state, unless otherwise noted. You may request this notice in an alternative format for the visually impaired by calling (202) 606-5000, ext. 278. The Corporation's T.D.D. number is (202) 565-2799 and is operational between the hours of 9 a.m. and 5 p.m. Eastern Daylight Time.

SUPPLEMENTARY INFORMATION:

Background

The Corporation is a federal government corporation, established by Congress in the 1993 amendments to the National and Community Service Act of 1990 (the Act) that engages Americans of all ages and backgrounds in service to communities. This service addresses the nation's education, public safety, environmental, or other human needs to achieve direct and demonstrable results with special consideration to service that affects the needs of children. In doing so, the Corporation fosters civic responsibility, strengthens the ties that bind us together as a people, and provides educational opportunity for those who make a substantial commitment to service. The Corporation supports a range of national service programs including AmeriCorps, Learn and Serve America, and the Senior Corps. Section 12653(s) of the Act, as amended in 1994, authorizes the Corporation to make grants to share the cost of planning and carrying out service opportunities in conjunction with the federal legal holiday honoring the birthday of Martin Luther King, Jr. We will fund grants to support activities that will (1) get necessary things done in communities, (2) strengthen the communities engaged in the service activity, (3) reflect the life and teaching of Martin Luther King, Jr., (4) promote President Bush's call to service, and (5) begin or occur in significant part on the federal legal holiday (January 20, 2003).

The King Center for Nonviolent Social Change, Inc. also supports activities in honor of Dr. King's birth through the “Beloved Community.” The “Beloved Community” is a network of partners, organizations and entities that promote the King Holiday or work of Dr. King by disseminating his philosophy, providing direct service, nonviolence training, education or programs ensuring the continuance of Dr. King's work. For more information about the Corporation and the programs it supports, go to http://www.nationalservice.org. For more information about the King Center, go to http://www.thekingcenter.org.

Getting things done means that projects funded under the Martin Luther King Jr. holiday grant will help communities meet education, public safety, environmental, or other human needs through direct service and effective citizen action. Accordingly, we expect well designed activities that meet compelling community needs and lead to measurable outcomes and impact.

Strengthening communities means bringing people together in pursuit of a common objective that is of value to the community. Projects should seek to engage a wide range of local partners in the communities served. You should design, implement, and evaluate projects with partners, including local and state King Holiday Commissions; the King Center's Beloved Community network; national service programs (AmeriCorps, Learn and Serve America, and the Senior Corps); Communities of Promise affiliated with America's Promise—the Alliance for Youth; youth leaders; community-based agencies; schools and school districts; Volunteer Centers affiliated with the Points of Light Foundation network and other volunteer organizations; local United Ways, non-profit organizations meeting urgent community needs, particularly those serving young people; communities of faith; businesses; foundations; state and local governments; labor organizations; and colleges and universities.

Reflecting the life and teaching of Martin Luther King, Jr. means demonstrating his proposition that, “Everybody can be great because everybody can serve.” Dr. King's concept of greatness, when expressed through acts of service, offers everyone an opportunity to experience a sense of worth and dignity. His example encourages all ages, races, colors, ethnic groups, genders, nationalities, and abilities to respond to those in need. We are challenged to adopt his philosophy in addressing the evils of discrimination, poverty and violence. Dr. King's abiding faith and earnest belief in the “American Dream” is exemplified by his commitment to justice and his willingness to serve unselfishly as evidenced by his statement, “I can never be what I ought to be until you are what you ought to be.” Dr. King's strategies and determination to use nonviolence as a means to transform the hearts of millions should be used as a rousing force to encourage others in their desire to be socially responsible through nonviolent direct actions—direct service. You should consider for this program service opportunities that foster cooperation and understanding among racial and ethnic groups, nonviolent conflict resolution, equal economic and educational opportunities, and social justice.

Promoting the President's Call to Service means providing opportunities for Americans to begin performing the 4000 hours—equivalent of two years—of community service that President Bush asked all Americans to do in his January 2002 State of the Union address. Projects submitted for funding should also provide opportunities for on-going service beyond the grant period. “Volunteerism and community service are central to the history of our Nation. Americans have always been a decent and deeply generous people, willing to help those in need. That was true before September 11. It is truer today. The Federal Government did not create this civic spirit; but we do have a responsibility to help support and encourage it where we can.”—George W. Bush

The President calls on all citizens to perform some form of service to the Nation for the equivalent of at least two years of their lives. That service can be military or non-military; it can meet large national purposes or local community needs; it can be domestic or international; and it can be done over an uninterrupted period or by accumulating service hours over many years. The intent is to promote civic ties and to foster a lifelong ethic of good citizenship and service among Americans of all ages.

Begin or occur in significant part on the federal legal holiday means that a significant portion of the community service activities supported by the grant should occur on the holiday itself to strengthen the link between the observance of Martin Luther King, Jr.'s birthday, the federal legal holiday (January 20, 2003), and service that reflects his life and teaching.

The direct service you will perform on and in connection with the King holiday may include, but is not limited to, the following types of activities: tutoring children or adults, training tutors, feeding the hungry, packing lunches, delivering meals, stocking a food or clothing pantry, repairing a school and adding to its resources, translating books and documents into other languages, recording books for the visually impaired, restoring a public space, organizing a blood drive, registering bone marrow and organ donors, renovating low-income or senior housing, building a playground, removing graffiti and painting a mural, renovating or creating safe spaces for children who are out of school and whose parents are working, collecting oral histories of elders, running health fairs that provide health screenings, distributing immunization and health insurance information, gleaning and distributing fruits and vegetables, etc. Since involving young people in service is a priority of the Corporation for National and Community Service, you might consider challenging each young person serving to pledge to give back 100 hours of service in the next year, therefore qualifying for a President's Student Service Award and beginning to accumulate the 4000 hours of service encouraged by President Bush.

Although celebrations, parades, and recognition ceremonies may be a part of the activities that you plan on the holiday and lead to or celebrate a commitment to service, these activities do not constitute direct service under this grant and the grant will not fund such activities.

Other service activities we will consider in grant applications include, but are not limited to, the following: a day-of-service you design to produce a sustained long-term service commitment; community-wide serve-a-thons that bring a broad cross-section of people together in a burst of energy on one day of service, including schools or school districts that seek to involve all students and teachers in joint service; service-learning projects that link student service in schools and universities with community-based organizations; faith-based service collaborations that bring together communities of faith and secular human service programs (subject to the limitations listed below); and service projects that include a pledge or commitment for continued service throughout the year.

Grant funding will be available on a one-time, non-renewable basis for a budget period not to exceed seven months, beginning no sooner than November 1, 2002 and ending no later than June 30, 2003. By statute, the grants we provide for this project, together with all other federal funds you use to plan or carry out the service opportunity, may not exceed 30 percent of the total cost.

For example, if you request $2,500 in federal dollars, you must have a non-federal match of at least $5,833 (cash and/or in-kind contributions) and a total projected cost of at least $8,333. If you request $7,500 in federal dollars you must have a non-federal match of at least $17,500 (cash and/or in-kind contributions) and a total projected cost of at least $25,000. In other words the total project cost multiplied by .30 is the maximum amount of money you can request from the federal government. (Total project cost minus federal dollars requested equals the required match). It may assist in the calculation to apply the formula as follows:

Total Project Cost x .30 = Maximum Federal Contribution.

Total Project Cost—Federal Dollars Requested = Non-Federal Match.

The non-federal match may include cash and in-kind contributions (including, but not limited to, supplies, staff time, trainers, food, transportation, facilities, equipment, and services) necessary to plan and carry out the service opportunity. You may not use any part of an award from the Corporation to fund religious instruction, worship or proselytization. You may not use any part of an award to pay honoraria or fees for speakers. You may not use any part of an award to support a celebration banquet or other activity that is not connected to the actual service.

The total amount of grant funds we will provide under this Notice will depend on the quality of applications and the availability of appropriated funds for this purpose.

Eligible Applicants

By law, any entity otherwise eligible for assistance under the national service laws is eligible to receive a grant under this announcement. The applicable laws include the National and Community Service Act of 1990, as amended, and the Domestic Volunteer Service Act of 1973, as amended.

Eligible applicants include, but are not limited to: nonprofit organizations, state commissions on service, volunteer centers, institutions of higher education, local education agencies, educational institutions, faith-based institutions, local or state governments, and private organizations that intend to utilize volunteers in carrying out the purposes of this program.

We especially invite applications from organizations with experience in—and commitment to—fostering service on Martin Luther King, Jr. Day, including state and local Martin Luther King, Jr. Commissions, the King Center's Beloved Community network, local education agencies, faith-based partnerships, Volunteer Centers affiliated with the Points of Light Foundation network, United Ways, Boys and Girls Clubs, Campfire Boys and Girls, and other community-based agencies.

Any grant recipient from a prior year Martin Luther King, Jr. Day of Service Initiative will be ineligible if it has been determined to be non-compliant with the terms of those grant awards.

Pursuant to the Lobbying Disclosure Act of 1995, an organization described in section 501(c)(4) of the Internal Revenue Code of 1986, 26 U.S.C. 501(c)(4), which engages in lobbying activities, is not eligible.

Overview of Application Requirements

If you are submitting a paper application or a 3.5” diskette in text format, follow these instructions. Applicants should submit the following standard components for federal grants:

1. An Application for Federal Assistance, Standard Form 424.

2. A Project Narrative that includes:

a. An executive summary no longer than 1 page

b. A description of the needs and activities no longer than 4 pages that should address:

i. Getting necessary things done in communities;

ii. Strengthening the communities engaged in the service activity;

iii. Reflecting the life and teaching of Martin Luther King, Jr.;

iv. Promoting President Bush's call to service; and

v. Activities that begin or occur significantly on the legal federal holiday (January 20, 2003), but which may extend for the budget period (November 1, 2002 through June 30, 2003).

c. organizational capacity no longer than 1 page that must address:

i. Partnerships in the local community, city, state or region that you are engaging in support of the service activities

ii. Your organization's background and capacity to carry out this program

iii. How you propose to staff the activity

The project narrative portion of the application may not be longer than 6 single-sided pages. You must type double-spaced in a font no smaller than 12 point and number each page.

3. A Budget Narrative (specific instructions are provided in the application materials).

4. Budget Information—Non-Construction Programs (SF 424A) form in the application package.

5. A signed Assurances—Non-Construction Programs (SF 424B) form incorporating conditions attendant to the receipt of federal funding.

We must receive all applications by 5:00 p.m. Eastern Daylight Time, July 31, 2002, at the Corporation office in your state, unless otherwise noted. Applications that are mailed or delivered should be addressed as follows: Martin Luther King, Jr. Day of Service, Corporation for National and Community Service (appropriate state office address; see list of addresses provided below).

Please make sure that you plan adequate time for a mailed application to arrive on or before the due date. Please note that due to on-going delays in the mail system, you should consider submitting the application via an express mail delivery service other than the U.S. Postal Service. Applications postmarked on the due date will not be accepted. You may not submit an application by facsimile.

If you plan to submit an application on line, detailed instructions will be provided on the Internet. Applicants will complete the same standard components as listed above for federal grants. Applications must be entered and submitted on line by 5:00 p.m. Eastern Daylight Time, July 31, 2002.

To ensure fairness to all applicants, we reserve the right to take action, up to and including disqualification, in the event that your application fails to comply with the requirements relating to page limits, line-spacing, font size, and application deadlines.

Budget

Detailed instructions about the budget information you must provide are in the application materials or on line.

Selection Process and Criteria

We will review the applications initially to confirm that you are an eligible recipient and to ensure that your application contains the information we require and otherwise complies with the requirements of this notice. We will assess the quality of applications' responsiveness to the objectives included in this announcement based on the following criteria listed below:

1. Program Design, i.e. Needs and Activities (60%—limit to 4 typewritten pages) The proposal must demonstrate your ability to get necessary things done, strengthen communities, reflect the life and teaching of Martin Luther King Jr., promote President Bush's call to service and provide opportunities for on-going service, and include activities that begin or occur in significant part on the federal legal holiday, January 20, 2003.

2. Organizational Capacity (25%—limit to one typewritten page) Your application must demonstrate your organization's ability to carry out the activities described in the proposal, including the use of highly qualified staff.

3. Budget/Cost Effectiveness (15%—limit to one typewritten page) You must demonstrate how you will use this grant effectively, including the sources and uses of matching support. Estimates on the numbers of people serving and to be served must be included.

After evaluating the overall quality of proposals and their responsiveness to the criteria noted above, we will seek to ensure that applications we select represent a portfolio that is: (1) Geographically diverse, including projects throughout the five geographical clusters as designated by the Corporation; (2) representative of different population tracts, i.e. rural, urban, suburban; and (3) representative of a range of models of service projects.

Awards

We anticipate making selections under this announcement no later than September 1, 2002.

Corporation for National and Community Service State Offices
State | Name | Address | Phone
AK | Billie Caldwell | Jackson Federal Building, 915 Second Avenue, Suite 3190, Seattle, WA 98174-1103 | (206) 220-7736
AL | Betty Platt | Medical Forum, 950 22nd St., N., Suite 428, Birmingham, 35203 | (205) 731-0027
AR | Opal Sims | Federal Building, Room 2506, 700 West Capitol Street, Little Rock, AR 72201 | (501) 324-5234
AZ | Richard Persely | 522 North Central, Room 205A, Phoenix, AZ 85004-2190 | (602) 379-4825
CA | Kristen Haggins | 11150 W. Olympic Blvd., Suite 670, Los Angeles, CA 90064 | (310) 235-7421
CO | Bruce Cline | 999 Eighteenth Street, Suite 1440 South, Denver, CO 80202 | (303) 312-7950
CT | Romero Cherry | 1 Commercial Plaza, 21st Floor, Hartford, CT 06103-3510 | (860) 240-3237
DC | Rosetta Freeman-Busby | 1201 New York Ave., NW., Suite 9107, Washington, DC 20525 | (202) 606-5000, x485
DE | Malcolm Coles | Fallon Federal Bldg., 31 Hopkins Plaza, Suite 400-B, Baltimore, MD 21201 | (410) 962-4443
FL | Warren Smith | 3165 McCrory Street, Suite 115, Orlando, FL 32803-3750 | (407) 648-6117
GA | Daryl James | 75 Piedmont Avenue, N.E., Room 902, Atlanta, GA 30303-2587 | (404) 331-4646
HI | Lynn Dunn | 300 Ala Moana Blvd., Room 6213, Honolulu, HI 96850-0001 | (808) 541-2832
IA | Joel Weinstein | Federal Building, Room 917, 210 Walnut Street, Des Moines, IA 50309-2195 | (515) 284-4816
ID | V. Kent Griffitts | 304 North 8th Street, Room 344, Boise, ID 83702-5835 | (208) 334-1707
IL | Timothy Krieger | 77 West Jackson Boulevard, Suite 442, Chicago, IL 60604-3511 | (312) 353-3622
IN | Thomas Haskett | 46 East Ohio Street, Room 226, Indianapolis, IN 46204-4317 | (317) 226-6724
KS | Bruce Cline | 444 S.E. Quincy, Room 260, Topeka, KS 66683-3572 | (785) 295-2540
KY | Betsy Wells | 600 Martin L. King Place, Room 372-D, Louisville, KY 40202-2230 | (502) 582-6384
LA | Willard Labrie | 707 Florida Street, Suite 316, Baton Rouge, LA 70801 | (225) 389-0473
MA | Malcolm Coles | 10 Causeway Street, Room 473, Boston, MA 02222-1038 | (617) 565-7001
MD | Malcolm Coles | Fallon Federal Bldg., 31 Hopkins Plaza, Suite 400-B, Baltimore, MD 21201 | (410) 962-4443
ME | Shireen Tilley | 1 Pillsbury Street, Suite 201, Concord, NH 03301-3556 | (603) 225-1450
MI | Mary Pfeiler | 211 West Fort Street, Suite 1408, Detroit, MI 48226-2799 | (313) 226-7848
MN | Robert Jackson | 431 South 7th Street, Room 2480, Minneapolis, MN 55415-1854 | (612) 334-4083
MO | Zeke Rodriguez | 801 Walnut Street, Suite 504, Kansas City, MO 64106 | (816) 374-6300
MS | R Abdul-Azeez | 100 West Capitol Street, Room 1005A, Jackson, MS 39269-1092 | (601) 965-5664
MT | John Allen | 208 North Montana Avenue, Suite 206, Helena, MT 59601-3837 | (406) 449-5404
NC | Robert Winston | 300 Fayetteville Street Mall, Raleigh, NC 27601-1739 | (919) 856-4731
ND | John Pohlman | 225 S. Pierre Street, Room 225, Pierre, SD 57501-2452 | (605) 224-5996
NE | Anne Johnson | Federal Building, Room 156, 100 Centennial Mall North, Lincoln, NE 68508-3896 | (402) 437-5493
NH | Shireen Tilley | 1 Pillsbury Street, Suite 201, Concord, NH 03301-3556 | (603) 225-1450
NJ | Stanley Gorland | Scotch Plaza, 1239 Parkway Ave., Ewing Township, NJ 08628 | (609) 989-2243
NM | Ernesto Ramos | 120 S. Federal Place, Room 315, Sante Fe, NM 87501-2026 | (505) 988-6577
NV | Craig Warner | 4600 Kietzke Lane, Suite E-141, Reno, NV 89502-5033 | (775) 784-5314
NY | Donna Smith | Leo O'Brien Federal Bldg., 1 Clinton Square, Suite 900, Albany, NY 12207 | (518) 431-4150
OH | Paul Schrader | 51 North High Street, Suite 451, Columbus, OH 43215 | (614) 469-7441
OK | Zeke Rodriguez | 215 Dean A. McGee, Suite 324, Oklahoma City, OK 73102 | (405) 231-5201
OR | Robin Sutherland | 2010 Lloyd Center, Portland, OR 97232 | (503) 231-2103
PA | Jorina Ahmed | Robert N.C. Nix Federal Bldg., 900 Market St., Rm 229, P.O. Box 04121, Philadelphia, PA 19107 | (215) 597-2806
PR | Loretta Cordova | 150 Carlos Chardon Ave., Suite 662, San Juan, PR 00918-1737 | (787) 766-5314
RI | Vincent Marzullo | 400 Westminster Street, Room 203, Providence, RI 02903 | (401) 528-5426
SC | Jerome Davis | 1835 Assembly Street, Suite 872, Columbia, SC 29201-2430 | (803) 765-5771
SD | John Pohlman | 225 S. Pierre Street, Room 225, Pierre, SD 57501-2452 | (605) 224-5996
TN | Jerry Herman | 233 Cumberland Bend Dr., Suite 112, Nashville, TN 37228-1806 | (615) 736-5561
TX | Jerry Thompson | 300 East 8th Street, Suite G-100, Austin, TX 78701 | (512) 916-5671
UT | Rick Crawford | 350 S. Main Street, Room 504, Salt Lake City, UT 84101-2198 | (801) 524-5411
VA | Thomas Harmon | 400 North 8th Street, Suite 446, P. O. Box 10066, Richmond, VA 23240-1832 | (804) 771-2197
VI | Loretta Cordova | 150 Carlos Chardon Ave., Suite 662, San Juan, PR 00918-1137 | (787) 766-5314
VT | Shireen Tilley | 1 Pillsbury Street, Suite 201, Concord, NH 03301-3556 | (603) 225-1450
WA | John Miller | Jackson Federal Bldg., Suite 3190, 915 Second Ave., Seattle, WA 98174-1103 | (206) 220-7745
WI | Linda Sunde | 310 W. Wisconsin Ave., Room 1240, Milwaukee, WI 53203 | (414) 297-1118
WV | Judith Russell | 10 Hale Street, Suite 203, Charleston, WV 25301-1409 | (304) 347-5246
WY | Patrick Gallizzi | 308 West 21st Street, Room 206, Cheyenne, WY 82001-3663 | (307) 772-2385

Program Authority: 42 U.S.C. 12653(s).

Dated: June 12, 2002.
Gary Kowalczyk,
Coordinator of National Service Programs.

[FR Doc. 02-15300 Filed 6-17-02; 8:45 am]

BILLING CODE 6050-$$-P